DEPARTMENT OF HEALTH AND HUMAN SERVICES

Centers for Disease Control and Prevention

Advisory Committee for Energy-Related Epidemiologic Research: Conference Call Meeting

In accordance with section 10(a)(2) of the Federal Advisory Committee Act (Pub. L. 92-463), the Centers for Disease Control and Prevention (CDC) announces the following conference call meeting.

Name: Advisory Committee for Energy-Related Epidemiologic Research (ACERER), Subcommittee for Management Review of the Chernobyl Studies (SMRCS).

Time and Date: 1 p.m.-1:30 p.m., June 26, 2000.

Place: The conference call will originate at the National Center for Environmental Health (NCEH), CDC, in Atlanta, Georgia. Please see SUPPLEMENTARY INFORMATION for details on accessing the conference call.

Status: Open to the public, limited only by the availability of telephone ports.

Purpose: This subcommittee is charged with providing guidance to the scientific reviewers and staff, and reporting back to the full ACERER on the charge from the Department and Congress to assess the management, goals, and objectives of the National Cancer Institute Chernobyl studies.

Matters To Be Discussed: The conference call agenda is to reach consensus on the review and report submitted by the SRMCS.

Agenda items are subject to change as priorities dictate.

SUPPLEMENTARY INFORMATION: This conference call is scheduled to begin at 1 p.m., Eastern Time. To participate in the conference call, please dial 1-877-322-9654 and enter conference code 970943. You will then be automatically connected to the call.

CONTACT PERSON FOR MORE INFORMATION: Michael J. Sage, Executive Secretary, ACERER, and Acting Deputy Director, NCEH, CDC, 4770 Buford Highway, NE, (F-28), Atlanta, Georgia 30341-3724, telephone 770/488-7002, fax 770/488-7015.

The Director, Management Analysis and Services Office, has been delegated the authority to sign Federal Register notices pertaining to announcements of meetings and other committee management activities for both CDC and the Agency for Toxic Substances and Disease Registry.

Dated: June 8, 2000.
Carolyn J. Russell,
Director, Management Analysis and Services Office, Centers for Disease Control and Prevention.

[FR Doc. 00-14945 Filed 6-12-00; 8:45 am]

BILLING CODE 4163-18-M